DEPARTMENT OF COMMERCE

Census Bureau

Agency Information Collection Activities; Submission to the Office of Management and Budget (OMB) for Review and Approval; Comment Request; 2026 Census Test—Peak Data Collection

AGENCY: Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed new information collection, for the 2026 Census Test, prior to the submission of the information collection request (ICR) to Office of Management and Budget (OMB) for approval.

DATES: To ensure consideration, comments regarding this proposed information collection must be received on or before March 11, 2025.

ADDRESSES: Interested persons are invited to submit written comments by email to ADDC.2030.census.paperwork@census.gov. Please reference “2026 Census Test—Peak Data Collection” in the subject line of your comments. You may also submit comments, identified by Docket Number USBC-2024-0028, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Michael Snow, Supervisory Program Analyst, Decennial Program Management Office, Decennial Census Management Division, 301-763-9912, dcmd.pra@census.gov.

SUPPLEMENTARY INFORMATION:

I. Abstract

The 2026 Census Test is the first of two major field tests planned to help the Census Bureau prepare for the 2030 Census. The 2026 Census Test is not an end-to-end test of all operations. Instead, it is a scaled-down version of the selected aspects of the census conducted in six field sites across the nation. The test also includes a nationally representative sample of households, who are able to respond to the test online, by phone, or by mail. The U.S. Census Bureau will test changes and enhancements planned for the 2030 Census in the real world and on a larger scale than research simulations allow. In 2028, a second test will serve as a dress rehearsal of census operations and handoffs between them.

The goals of the 2026 Census Test are to test operational viability of new and revamped systems and methods researched and developed for the census, to identify, document, and address potential challenges; and to evaluate the efficacy of proposed changes to ensure the overall quality of the 2030 Census design. Some decisions, including names of operations and workload estimates, have yet to be made as the Census Bureau is finalizing the test plans; however, at this time, the Census Bureau can present aspects of the test that affect the public.

Self-Response

Self-Response collects respondent information via the internet, phone interviews, and paper questionnaires. A description of the self-response modes for housing units (HUs) follows in the next sections. An HU is a private residence for a person or small group of people (such as a family or group of roommates). Each housing unit must have a separate entrance that provides direct access to the outdoors or to a common space within a building (such as a hall, lobby, or stairwell) without having to pass through the living quarters of any other people. A living quarters is typically a structure that is intended for residential use. However, any structure or place where someone is living (or where someone is sleeping without having a usual home elsewhere) is also considered a living quarters, even if it is not intended for residential use.

Internet Self-Response (ISR)

Internet Self-Response (ISR) allows the public to respond online. ISR was available for the first time in the 2020 Census, and nearly 80 percent of all self-responses were collected via the ISR instrument. For the 2026 Census Test, ISR intends to maximize online responses from HUs to support expected reductions in data collection via paper, telephone, and in-field enumeration (IFE).

The ISR design for the 2026 Census Test builds on the successes of the 2020 Census. Four principles govern the design work: (1) providing a secure web-based application for collecting individual responses, (2) providing the best user experience possible, including quick and easy access; (3) utilizing electronic data collection instruments to increase data quality; and (4) ensuring that the ISR systems can support anticipated volumes of responses and other systems usage needs while adhering to all appropriate systems, information security policies, and procedures for ensuring data security. This is important because self-response data are the most accurate and improve census data quality.

Mobile Questionnaire Assistance (MQA)

Mobile Questionnaire Assistance (MQA) makes it easier for people to self-respond. MQA consists of scheduled community events jointly hosted by Census Bureau staff and community partners to engage with the public in communities who are hard-to-count and/or historically undercounted. Census Bureau staff work closely with community organizations, local governments, partners, and other stakeholders to host these events at neighborhood and community events, public gatherings, etc. to facilitate response to the census. MQA staff answer questions about the 2026 Census Test, provide promotional materials, and help the public respond.

The keys to improving quality and coverage are developing strategies to engage hard-to-count populations. MQA supports self-response by providing an additional avenue for people to respond to the census, especially in areas with low or no internet access. Promotional materials, a social media presence, and targeted messaging for specific communities encourage participation. The 2026 Census Test of MQA will focus on designing and testing methods for operationalizing MQA rather than measuring increases in response rates.

In addition, the Census Bureau is testing a data-driven approach to determine the most effective locations for MQA events. This approach examines historical and real-time data about response propensity (likelihood of different demographic groups or geographic areas to respond to the decennial census) alongside other demographic data to hyperfocus on those areas with historically low response rates or historically undercounted populations.

Decisions concerning specific locations within the six 2026 Census Test sites to conduct MQA events have not yet been made. The selections will be based on historic response rates, demographic and logistical characteristics of the test sites, and the presence of partnership activities.

Census Questionnaire Assistance (CQA)

Census Questionnaire Assistance (CQA) enables enumeration by helping people respond to the 2026 Census Test questionnaire by phone. Phone Self-Response is the enumeration of HUs by telephone. The Census Bureau provides live customer service representatives (toll-free numbers) who can take a caller's census response over the phone via a personal interview or help them complete the questionnaire (online or paper) themselves. An automated front-end system uses Interactive Voice Response (IVR) technology to resolve basic questions, thereby reducing the number of agents required. Questionnaire assistance is provided in multiple languages as determined by research on current language needs. CQA also provides questionnaire support for respondents and administrators of specific noninstitutional group quarters (GQs). (See the definition of GQs in the section titled Group Quarters Enumeration.) Planning for CQA involves determining the expected inbound call volumes, the timing of peak volumes, and a plan for handling unexpectedly large volumes. CQA is responsible for staffing, training, and managing the day-to-day work of the call center during peak production. CQA analyzes data trends to enhance customer experience and provide efficient and accurate assistance.

Paper Data Capture (PDC)

Paper Data Capture (PDC) collects 2026 Census Test responses on paper questionnaires. It is largely unchanged from the 2020 Census design. The PDC process consists of steps including mail receipt, document preparation, scanning and keying. A quality assurance (QA) process guarantees accurate data capture. Enhancements focus on improving system and processing efficiencies.

In-Field Enumeration (IFE)

IFE is a field activity that collects responses in person. IFE captures the status of HUs and enumerates HUs that do not or cannot self-respond. This includes follow-up with nonmailable addresses and those that require an in-person visit for quality control purposes. For the 2026 Census Test, IFE covers the scope of three 2020 Census operations (Nonresponse Followup [NRFU], Update Leave [UL], and Update Enumerate [UE]) and comprises four components:

• IFE Contact Strategy Development.

• In-Field HU Enumeration.

• Remote Enumeration (including IFE for nonmailable addresses).

• In-Field Quality Control.

For the 2026 Census Test, IFE will be collecting information to create cost and staffing estimates to inform 2030 Census IFE estimates by:

• Determining field staff productivity and workload metrics.

• Identifying estimated caseload and staffing needs.

• Estimating costs.

The 2026 Census Test IFE will implement numerous enhancements to streamline data collection, reduce time in the field, and improve data accuracy. These improvements (on a mobile device) include functionality that provides field staff an address list with a map, allows users to add and delete addresses, view surrounding addresses, and link duplicate addresses. Improvements also include capabilities to make universe conversions. (e.g., move HU cases to the GQ or transitory locations [TLs] universe, if necessary)

Multi-Operation Enumerators

The 2026 Census Test will train and deploy multi-operation field staff. In past censuses, field staff were hired and trained to work exclusively on specific operations. If a GQ facility or a TL was erroneously included in the housing-unit workload, they could not move these cases to the proper operation or conduct an interview. Cross-training some field staff to enumerate HUs, GQs, and TLs will increase operational efficiency. The success of this solution relies on equipping field staff with an automated case list that facilitates the transfer of cases between operations.

Group Quarters Enumeration (GQE)

For the 2026 Census Test, we will develop address and contact frames for GQs and TLs by using external data files from stakeholders, internal files (such as the Joint Justice Frame), and web scraping of the internet for select GQ and TL types. A GQ is a place that is designed to house a (usually large) group of people who typically are nonrelatives and have similar objectives, needs, or restrictions. These places provide care or services or the occupants (such as supervision, health care, or other types of assistance) and/or have certain communal facilities that are shared by the occupants (such as communal bathrooms or kitchens). GQs include a range of unconventional household compositions or locations such as college/university student housing, residential treatment centers, nursing/skilled nursing facilities, group homes, correctional facilities, military barracks, and workers' dormitories. People living or staying in GQs on April 1, 2026 (Census Day) are counted during Group Quarters Enumeration (GQE).

A TL is a place where people are unlikely to live year-round because of the transitory/temporary nature of the living quarters at the location. Generally, people living or staying at a transitory location either pay fees to stay there, or they work there temporarily. TLs include recreational vehicle (RV) parks and campgrounds, marinas, hotels, motels, hostels, racetracks, circuses, and carnivals/fairs/rodeos. TL residents are counted by Enumeration at Transitory Locations (ETL). ETL is not in scope for the 2026 Census Test. However, office and field staff must be able to identify and move these cases from the HU or GQ universes or vice versa.

Before GQE begins, the Census Bureau contacts GQ administrators to select a method to enumerate their residents. (For more information on GQ Advance Contact, see its Federal Register Notice https://www.federalregister.gov/d/2024-25592.) The GQ administrator is a vital link between the Census Bureau and the facility residents; we could not count the residents without their cooperation and assistance. Group Quarters Advance Contact (GQAC) not only updates/verifies GQ contact information but also collects information about each GQ they manage or are responsible for.

The 2026 Census Test will evaluate numerous enhancements to the various GQE data collection strategies such as GQ Advance Contact, eResponse, automation of in-field data collection, and GQ ISR for residents of specific GQ types.

Quality Assurance (QA) Efforts

We are focused on methods to improve data quality in all aspects of the 2030 Census. We are testing some of these methods in the 2026 Census Test whereas others are out of scope as the Census Bureau further develops the systems, metrics, and operational procedures.

For the 2026 Census Test, the public-facing aspects include:

• Census Data Quality Assurance (CDQA): Re-collects self-response cases that trigger concern about either data quality, transmission errors, or fraudulent responses.

• Field data collection QA: Reinterviews households to detect and deter field staff falsification and correct deficient work.

• GQ data collection QA: For the 2026 Census Test, a sample of GQ field enumeration cases will be selected for quality control (QC), and Census Bureau staff will conduct telephone reinterviews for the sample set to confirm that the field staffer visited the site and that the total population count is correct. Other methods for ensuring high-quality data collection are integrated into staff management activities. This includes field reinterviews of selected cases whereby the original collected data are compared to the reinterview data.

II. Method of Collection

The 2026 Census Test will take place in six sites within the continental United States: Western Texas (Brewster, Jeff Davis, Pecos, and Presidio counties); Tribal Lands Within Arizona (Fort Apache Reservation, home to the White Mountain Apache Tribe, and San Carlos Reservation, home to the San Carlos Apache Tribe); Colorado Springs, CO (selected areas within the metro area); Western North Carolina, (Cherokee, Graham, Jackson, and Swain counties, and Qualla Boundary, home to the Eastern Band of Cherokee Indians); Spartanburg, SC (selected areas within the metro area); and Huntsville, AL (selected areas within the metro area).

These locations were chosen because they possess particular characteristics that support the Census Bureau's focus on six enhancement areas, including: making it easier for people to respond on their own online, by phone, or by mail; improving in-person household data collection; improving methods for counting people living in GQs; enhancing outreach efforts to create awareness and encourage responses; enhancing the infrastructure that supports census operations; and processing data concurrently with data collection.

Self-Response

Self-Response makes it easy to respond to the 2026 Census Test by offering internet options in addition to paper questionnaires through the mail. The Census Bureau sends letters, postcards, and questionnaires to HUs encouraging them to self-respond. In addition, people calling the Census Bureau for help may self-respond by completing the questions over the phone. Self-response reduces costly in-person follow-up and reduces respondent burden.

The national sample for the 2026 Census Test includes a control panel with mailings identical to those being sent for the site portion of the test. Additionally, three experimental panels will help refine the mailing strategies and materials used in the 2023 Census Test, the 2024 Census Survey, and the 2024 National Census Survey. Selected sites of the 2026 Census Test will receive Every Door Direct Mail as part of the mailing strategy.

Internet Self-Response

Internet Self-Response (ISR) allows the public to respond through an online questionnaire. Improvements for the 2026 Census Test are concentrated on creating an application that performs effectively across different devices, aiming to deliver a positive user experience and boost response rates. We are enhancing the online tool to improve data quality while minimizing respondent burden and the need for follow-up to ensure complete coverage.

The 2026 Census Test will allow respondents to complete the online questionnaire with or without a census ID (Non-ID). Respondents who do not enter a census ID (Non-ID) and instead enter an address, the Centralized Decennial Address Control (CDAC) system will attempt to match the respondent's address to the Census Bureau's address list allowing Non-ID responses is key to facilitating quick, easy and accurate completion of the census questionnaire.

Paper Questionnaire Response

Paper questionnaires (English only or bilingual English and Spanish) will be sent to select HUs in the first mailing as determined by the 2026 Census Test mail strategy. If no response is received after the third mailing, packages containing a questionnaire will be mailed to all non-responding HUs in the fourth mailing.

Census Questionnaire Assistance

CQA is a telephone enumeration option for all HU and a subset of GQ respondents and functions as a census helpline.

When people call, live customer service representatives offer to take their 2026 Census Test response over the telephone, using the CQA-Computer Assisted Telephone Interviewing (CATI) instrument. This method of telephone enumeration was conducted in the 2020 Census and proved effective in improving response rates. In addition, CQA allows HU respondents to request a paper questionnaire by mail, if they prefer that option.

Mobile Questionnaire Assistance

Mobile Questionnaire Assistance (MQA) events are collaborative events hosted by Census Bureau staff, community partners, and other stakeholders. At MQA events during the 2026 Census Test, the public can respond in the following ways:

• Census Bureau staff provide a mobile device with a questionnaire link or paper questionnaires for the public to complete on their own or with staff guidance.

• Census Bureau staff interview the public, directly capturing responses electronically on their Census Bureau-provided mobile device.

• The public completes the 2026 Census Test questionnaire electronically on their own personal device using a Census Bureau-provided Quick Response (QR) code. MQA promotional materials contain the QR code and questionnaire link. People can respond at the event or complete the census questionnaire online later. This QR code can be shared with a friend, family member, etc.

Census Bureau staff are also available at the event to answer questions and provide additional information and promotional materials.

In-Field Enumeration

For the 2026 Census Test, a consolidated HU IFE data collection will be conducted that combines nonmailable cases, nonresponse follow-up cases, and other field interview cases. The goals of field data collection include:

• Conduct streamlined in-field data collection.

○ Provide fully automated data collection for all HU types.

○ Begin field enumeration closer to the start of self-response for selected cases as part of the Early In-Field Enumeration Phase of the operation.

○ Include workloads for nonmailable HUs, cases in college areas, cases in areas with many seasonal vacancies, and nonresponse follow-up cases.

○ Implement a case assignment methodology that varies by case type and geography.

○ Implement a three-phased approach to in-field data collection—Enumeration phase, nonresponse follow-up phase, and closeout phase.

• Complete cases with the same or better data quality than traditional field interviews using in-field self-response enumeration methods. These methods aim to:

○ Increase the case completion rate for IFE by using an in-field self-response option.

○ Reduce interview breakoffs.

○ Reduce language barriers.

○ Reduce refusals.

○ Reduce the item nonresponse rate for all housing and demographic items.

○ Reduce contact attempts.

○ Increase Protected Identification Key (PIK) rates, which are the percentage of records to which the Census Bureau can assign a unique identifier.

• Provide a QR code that allows respondents to answer the census on their own devices.

○ Increase the number of cases that self-respond after an in-field contact attempt.

○ Reduce respondent burden.

Group Quarters Enumeration

The GQ enumeration cycle begins by contacting the GQ administrator before the enumeration period. This advance contact allows the Census Bureau to collect information about the GQ (e.g., the expected Census Day population, the preferred enumeration method, and the date scheduled to conduct the enumeration) to prepare for the GQE. During the 2020 Census, GQAC was conducted by telephone (in-office interview) or a personal visit (in-field interview) with the GQ administrator. For the 2026 Census Test, advance contact information will also be collected by phone or by in-person visit. The GQAC will produce the workload for GQE.

For the 2026 Census Test, the information collection methods for GQE are:

• In-Person Interview: Field staff interview residents individually, using a mobile device.

• Drop Off/Pick Up of Questionnaires: Field staff drop off questionnaires for each resident to complete and collect them on an agreed-upon date. The residents will be provided information to respond online if they choose.

• Facility Self-Enumeration: The GQ administrator is sworn in, distributes questionnaires to residents, and collects completed documents for pick-up by field staff. This method is limited to correctional facilities, healthcare facilities, and military quarters.

• Paper Response Data Collection (PRDC or “paper listings”): The GQ administrator provides a paper listing containing resident data.

• Group Quarters Electronic Data Transfer (eResponse): eResponse was introduced during the COVID-19 pandemic for the 2020 Census as an alternative to paper data collection. This tool has been enhanced for the 2026 Census Test. GQ administrators will be provided (via email) a user ID and link to the eResponse questionnaire to input client-level data (a choice of multiple formats) for each GQ they are responsible for or manage, and they can submit it via a secure portal.

• Group Quarters Internet Self-Response (GQ ISR): GQ ISR is a new data collection method for the 2026 Census Test to encourage online response. There are two components to GQ ISR:

○ The Census Bureau Emails Residents the Questionnaire Link: The GQ administrator will receive a link to a secure online system and will be asked to enter or upload a list of the names and email addresses of all the people who were staying at the group quarters on April 1, 2026. The Census Bureau will email each person a link to the Census ID to respond online.

○ The Census Bureau Provides an Invitation Letter to Residents: If the GQ Administrator wants residents to respond online but prefers not to provide the residents' email addresses to the Census Bureau, field staff will go to the GQ at the agreed upon date and time to drop off invitation letters for the GQ administrator to distribute to the residents. Each letter contains a link to the census questionnaire, a QR code, and a Census ID that must be entered when responding online. The GQ administrator will distribute the letter to each person staying at the GQ on April 1, 2026.

Quality Assurance Efforts

The 2026 Census Test will incorporate QA processes in all aspects of its data collection such as activities that track collected response data and examine them for anomalies relating to the data collection process, potential data falsification, and completeness of responses. For both re-collect cases (HU self-responses requiring an in-field follow-up interview) and reinterview cases (HUs selected for reinterview as part of the QA process), field staff reinterview these HUs using the automated instrument on their mobile device.

In-Field QA also involves selecting a sample (one of the first three eligible cases) of a field staffer's cases for reinterview. Thereafter, every nth case completed will be selected for reinterview, while other cases are designated for reinterview using analytic sampling. Cases that display anomalies in the response data, paradata, or Global Positioning System (GPS) data are flagged for reinterview. Additionally, some cases may be selected to assess the work of field staff suspected of not conducting interviews properly. During reinterview, a member of the field staff other than the one who conducted the initial interview returns to the selected address. The reinterview data are compared to the original (production) interview data through computer matching. Data that do not meet the specified matching criteria undergo a clerical review and are assigned a final outcome. Field staff who falsify responses or consistently produce poor quality work (coverage and completeness errors) undergo on-the-job training or are released from employment.

III. Data

OMB Control Number: 0607-XXXX.

Form Number(s):

• Self -Response Mailings: D6-LF1(E/S), D6-FL1(E/S), D6-L, D6-EO-F1(E/S), D6-LC1(E/S), D6-Q1(E/S), D6-Q1(E), D6-FA4(E/S), D6-LI, D6-EO-C1(E/S), D6-ER4(E/S), D6-L2(E/S), D6-EO2(E/S), D6-EO2T(E/S), D6-P3(E/S), D6-P3e, D6-L4(E/S), D6-Q1(E), D6-EO4(E/S), D6-P5(E/S)

• In-Field Enumeration: D6-IS1-IFE(E/S), D6-NV2(E/S), D6-IS2(E/S), D6-ID, D6-ER4(E/S), D6-LI-IFE, D6-P-IFE(E/S), D6-P3e-IFE

• Group Quarters: D6-Q-GE, D6-Q-GE(S), D6-E-GE(E/S), D6-ER-GE(E/S), D6-LFM-GE(E/S), D6-LC1-GE(E/S), D6-CN-GE(E/S), D6-B-GE, D6-B-GE(S), D6-T-GE, D6-ID

• Mobile Questionnaire Assistance (MQA): D6-FY-MQA, D6-ID

• Experimental Mailings: D6-LF1-XA(E/S), D6-FL1-X(E/S), D6-LI, D6-EO-F1(E/S), D6-L2-XA(E/S), D6-EO2(E/S), D6-P3-XA(E/S), D6-L4-XA(E/S), D6-EO2(E/S), D6-P5-XA(E/S), D6-L4(E/S), D6-Q1(E/S), D6-FA4(E/S), D6-EO4(E/S), D6-ER4(E/S), D6-P5-XA(E/S), D6-LF1-XC(E/S), D6-FL1-X(E/S), D6-L2-XC(E/S), D6-EO2(E/S), D6-ER4(E/S), D6-P5 (E/S), D6-LC1(E/S), D6-Q1(E/S), D6-FA4(E/S), D6-EO-C1(E/S), D6-L2-XC(E/S), D6-P3-XC(E/S), D6-L4(E/S)

• Draft Content Specifications for Electronic Instruments: D6-QE-ISR, D6-QE-CQA, D6-QE-IFE, D6-QE-GA, D6-QFE-GA, D6-QME-GQ, D6-QE-GE, D6-T-GR, D6-QFE-GE

• Draft Content Specifications for Emails: D6-EM-GA, D6-EM-GE, D6-EM-GR

Type of Review: New Information Collection Request.

Affected Public: Individuals or households; Not-for-profit institutions.

Estimated Number of Respondents:

Self-Response—370,000

In-Field Enumeration—223,000

Group Quarters—22,500

Quality Efforts—15,900

The total estimated number of respondents is 631,850.

Estimated Time Per Response:

Self-Response—10 minutes

In-Field Enumeration—10 minutes

Group Quarters

Self-Response methods (resident level)—5 minutes

eResponse/internet Self Response (administrator level)—20 minutes

Quality Efforts—10 minutes

CDQA, IFE Reinterview—10 minutes

Group Quarters Quality Control—5 minutes

Estimated Total Annual Burden Hours: 103,502

2026 Census Test
Operation or category | Estimated number of respondents | Estimated time per response (minutes) | Total burden hours
Self-Response | 370,000 | 10 | 61,667
In-Field Enumeration | 223,000 | 10 | 37,167
Group Quarters
GQ Enumeration—Self-Response Methods (resident level) | 22,500 | 5 | 1,875
GQ Enumeration—eResponse/Internet Self Response (administrator level) | 450 | 20 | 150
Group Quarters Subtotal | 22,950 |  | 2,025
Quality Efforts
CDQA | 2,300 | 10 | 384
IFE Reinterview | 13,500 | 10 | 2,250
Group Quarters QC | 100 | 5 | 9
Quality Efforts Subtotal | 15,900 |  | 2,643
Totals | 631,850 |  | 103,502

The Census Bureau has reviewed this data product to ensure appropriate access, use, and disclosure avoidance protection of the confidential source data (Project No. P-7528546, P-7532093, P-7532126, P-7529919, Disclosure Review Board (DRB) approval number: CBDRB-FY25-DSSD007-0001 and CBDRB-FY19-539).

Estimated Total Annual Cost to Public: There are no costs to respondents other than their time to participate in this data collection.

Respondent's Obligation: Mandatory.

Legal Authority: Title 13, U.S. Code, Sections 141, 193 and 221.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Clearance Officer, Office of the Under Secretary for Economic Affairs, Commerce Department.

[FR Doc. 2025-00270 Filed 1-8-25; 8:45 am]

BILLING CODE 3510-07-P